DEPARTMENT OF COMMERCE

National Oceanic and Atmospheric Administration

Agency Information Collection Activities; Submission to the Office of Management and Budget (OMB) for Review and Approval; Comment Request; NMFS Observer Programs' Information That Can Be Gathered Only Through Questions; Correction

AGENCY: National Oceanic and Atmospheric Administration (NOAA), Commerce.

ACTION: Notice of information collection; correction.

SUMMARY: On December 19, 2023, the Department of Commerce, published a 30-day public comment period notice in the Federal Register for an information collection entitled “NMFS Observer Programs' Information That can be Gathered Only Through Questions.” This document referenced incomplete information in the Needs and Uses section, and Commerce hereby issues a correction notice as required by the Paperwork Reduction Act of 1995.

ADDRESSES: This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0593.

FOR FURTHER INFORMATION CONTACT: For additional information concerning this correction, contact Adrienne Thomas, NOAA PRA Officer, at NOAA.PRA@noaa.gov.

SUPPLEMENTARY INFORMATION:

Correction

In the Federal Register of December 19, 2023 in FR Doc. 2023-27834, on page 87753, in the third column, correct the third paragraph of the “Needs and Uses” section to read:

The information collected will be used: (1) to monitor catch and bycatch in federally managed commercial fisheries; (2) to understand the population status and trends of fish stocks and protected species, as well as the interactions between them; (3) to determine the quantity and distribution of net benefits derived from living marine resources; (4) to predict the biological, ecological, and economic impacts of existing management action and proposed management options; (5) to ensure that the observer programs can safely and efficiently collect the information required for the previous four uses; and (6) for criminal and/or civil investigations by law enforcement agencies. In particular, these biological and economic data collection programs contribute to legally mandated analyses required under the Magnuson-Stevens Fishery Conservation and Management Act (MSA), the Endangered Species Act (ESA), the Marine Mammal Protection Act (MMPA), the National Environmental Policy Act (NEPA), the Regulatory Flexibility Act (RFA), Executive Order 12866 (E.O. 12866), as well as a variety of state statutes. The confidentiality of the data will be protected as required by the MSA, section 402(b).

Sheleen Dumas,
Department PRA Clearance Officer, Office of the Under Secretary for Economic Affairs, Commerce Department.

[FR Doc. 2024-02756 Filed 2-9-24; 8:45 am]

BILLING CODE 3510-22-P